DEPARTMENT OF HEALTH AND HUMAN SERVICES

Administration on Aging

2005 White House Conference on Aging; Notice of Policy Committee Listening Sessions for Presentations by Members of the Leadership Council of Aging Organizations

Pursuant to section 10(a) of the Federal Advisory Committee Act as amended (5 U.S.C. Appendix 2), notice is hereby given of the following meetings.

The listening sessions will be open to the public, with attendance limited to space available. Due to building security requirements, please call Nora Andrews, 202-357-0149 to register your intent to attend.

The first of the three listening sessions falls under the 15-day notification requirement due to scheduling requirements; however, participants may choose to attend any one of the three listening sessions.

Summary: As the Baby Boom generation approaches retirement age, it is essential that we develop policies to ensure that this national resource remains a vital part of society. The 2005 White House Conference on Aging needs input as we develop an agenda for the 2005 Conference. How can we enable seniors to continue actively participating in and contributing to community and national well-being? Looking forward over the next decade and beyond, how can we, as individuals, businesses, private organizations and government in partnership, harness the vast potential that exists within an aging America?

We are particularly interested in the following key issue areas: planning along the lifespan, employment, our environment, health and long-term living, social engagement, and the marketplace. Speakers from the Leadership Council of Aging Organizations will be limited to five minutes maximum although there may be follow-up questions from members of the panel; there will be no questions taken from the audience. Accompanying written statements from speakers are encouraged and will be limited to a maximum of five pages. Selected speakers may be contacted by Conference staff and asked to elaborate on their presentations, or asked to or provide additional written materials.

Contact Person: Members to the Leadership Council are requested to register as soon as possible, but not later than one week before the session, by e-mail to nora.andrews@aoa.gov, stating name, organization, very brief description of the organization's purpose, mailing address, e-mail address, telephone number, subject to be presented, and whether or not you will be providing a written statement with your presentation. It is recommended that written statements be submitted electronically 2 business days before the session. Speakers will be called in the order they register. For further information call (202) 357-0149.

Meeting Dates and Times: Wednesday, August 18, 2004, from 2 p.m. to 5 p.m. EDST; Thursday, September 9, 2004, from 9:30 a.m. to 12:30 p.m., and from 2 p.m. to 5 p.m. EDST; Friday, September 10, 2004, from 9:30 a.m. to 12:30 p.m., and from 2 p.m. to 5 p.m. EDST.

Addresses: The Administration on Aging, One Massachusetts Avenue, NW, Room 4101, Washington, DC 20001.

Dated: August 17, 2004.
Josefina G. Carbonell,
Assistant Secretary for Aging.

[FR Doc. 04-19210 Filed 8-20-04; 8:45 am]

BILLING CODE 4154-01-P